DEPARTMENT OF LABOR

Employment and Training Administration

[TA-W-56,885]

CTNA Akron Test Center, a Subsidiary Of Continental Tire North America (CTNA), Inc., Akron, OH; Notice of Revised Determination on Reconsideration

By application of May 25, 2005, petitioners requested administrative reconsideration of the Department's negative determination regarding eligibility for workers and former workers of the subject firm to apply for Trade Adjustment Assistance (TAA) and Alternative Trade Adjustment Assistance (ATAA). The denial notice was signed on May 13, 2005 and published in the Federal Register on June 13, 2005 (70 FR 34154).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, filed on behalf of workers at CTNA Akron Test Center, a subsidiary of Continental Tire North America, Inc., Akron, Ohio engaged in testing services was denied because the petitioning workers did not produce an article within the meaning of Section 222 of the Act.

The petitioner contends that the Department erred in its interpretation of work performed at the subject facility as a service and further conveys that the petitioning group of workers was in direct support of CTNA manufacturing facility in Mayfield, Kentucky. The workers of CTNA, Mayfield, Kentucky were certified eligible for TAA on July 7, 2003. CTNA plant in Mayfield, Kentucky ceased production of tires and shifted it to Mexico in December 2004.

A company official was contacted for clarification in regard to the nature of the work performed at the subject facility. The company official stated that workers of the subject facility performed quality testing on finished tires to ensure compliance to DOT requirements. Thus, the workers were engaged in activities related to the production of tires.

The official further confirmed that workers of the subject firm supported production of tires at an affiliated plant, CTNA plant located in Mayfield, Kentucky prior to its closure in December of 2004.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the facts obtained in the investigation, I determine that there was a shift in production from the workers' firm or subdivision to Mexico of articles that are like or directly competitive with those produced by the subject firm or subdivision. In accordance with the provisions of the Act, I make the following certification:

All workers of the CTNA Akron Test Center, a subsidiary of Continental Tire North America, Inc., Akron, Ohio who became totally or partially separated from employment on or after April 4, 2005 through two years from the date of this certification, are eligible to apply for adjustment assistance under Section 223 of the Trade Act of 1974, and are eligible to apply for alternative trade adjustment assistance under Section 246 of the Trade Act of 1974.

Signed at Washington, DC, this 8th day of July, 2005.
Elliott S. Kushner,
Certifying Officer, Division of Trade Adjustment Assistance.

[FR Doc. E5-3838 Filed 7-19-05; 8:45 am]

BILLING CODE 4510-30-P